DEPARTMENT OF AGRICULTURE

Animal and Plant Health Inspection Service

[Docket No. APHIS-2013-0043]

Monsanto Co.; Draft Environmental Impact Statement for Determination of Nonregulated Status of Herbicide Resistant Soybeans and Cotton; Comment Period

AGENCY: Animal and Plant Health Inspection Service, USDA.

ACTION: Notice.

SUMMARY: The comment period for a draft environmental impact statement (EIS) on environmental impacts that may result from the potential approval of petitions seeking a determination of nonregulated status of cultivars of dicamba herbicide resistant soybeans and cotton produced by the Monsanto Company will remain open until October 10, 2014. This action will allow interested persons additional time to prepare and submit comments.

DATES: The comment period for the draft EIS announced in the notice published August 11, 2014 (79 FR 46799) will remain open until October 10, 2014.

ADDRESSES: You may submit comments by either of the following methods:

• Federal eRulemaking Portal: Go to http://www.regulations.gov/#!docketDetail;D=APHIS-2013-0043.

• Postal Mail/Commercial Delivery: Send your comment to Docket No. APHIS-2013-0043, Regulatory Analysis and Development, PPD, APHIS, Station 3A-03.8, 4700 River Road Unit 118, Riverdale, MD 20737-1238.

Supporting documents and any comments we receive on this docket may be viewed at http://www.regulations.gov/#!docketDetail;D=APHIS-2013-0043 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Sid Abel, Biotechnology Regulatory Services, APHIS, 4700 River Road Unit 147, Riverdale, MD 20737-1238; (301) 851-3896.

SUPPLEMENTARY INFORMATION: On August 11, 2014, the Environmental Protection Agency published in the Federal Register (79 FR 46799) a notice announcing the availability of a draft environmental impact statement (EIS) for the potential determinations of nonregulated status of cultivars soybeans and cotton produced by the Monsanto Company that are resistant to the herbicide dicamba.

Comments on the draft EIS were required to be received on or before September 25, 2014. We will now accept all comments on the draft EIS received through October 10, 2014. This action will allow interested persons additional time to prepare and submit comments.

Authority: 7 U.S.C. 7701-7772 and 7781-7786; 31 U.S.C. 9701; 7 CFR 2.22, 2.80, and 371.3.

Done in Washington, DC, this 24th day of September 2014.
Michael C. Gregoire,
Associate Administrator, Animal and Plant Health Inspection Service.

[FR Doc. 2014-23180 Filed 9-29-14; 8:45 am]

BILLING CODE 3410-34-P